OFFICE OF PERSONNEL MANAGEMENT

5 CFR Parts 330, 332, 351, 353

RIN 3206-AJ32

Career Transition Assistance for Surplus and Displaced Federal Employees

AGENCY: Office of Personnel Management.

ACTION: Final rulemaking.

SUMMARY: The Office of Personnel Management (OPM) is issuing final regulations making the current career transition assistance programs permanent to help Federal employees displaced from their jobs by downsizing. These regulations adopt interim regulations published June 4, 2001, as final.

EFFECTIVE DATE: March 7, 2002.

FOR FURTHER INFORMATION CONTACT: Jacqueline Yeatman, (202) 606-0960, FAX (202) 606-2329, or by email at: jryeatma@opm.gov.

SUPPLEMENTARY INFORMATION:

Background

On June 4, 2001, OPM published interim regulations removing the sunset date from the Career Transition Assistance Plan (CTAP) and Interagency Career Transition Assistance Plan (ICTAP). These regulations also permanently eliminated the Interagency Placement Program (IPP), deleting references to the IPP in parts 332, 351 and 353 and replacing them with ICTAP where appropriate.

Comments

Four Federal agencies commented on these regulations. All four agreed with the regulations as published, supporting OPM's decision to permanently replace the IPP with CTAP and ICTAP and to eliminate the agency reporting requirements. One agency suggested that we consider redesignating CTAP as ACTAP (Agency Career Transition Assistance Plan) to reduce confusion between this agency placement program and the ICTAP, the interagency program. We believe the best way to implement such a change would be in conjunction with future proposed regulations.

Executive Order 12866, Regulatory Review

This rule has been reviewed by the Office of Management and Budget in accordance with Executive Order 12866.

Regulatory Flexibility Act

I certify that this regulation will not have a significant economic impact on a substantial number of small entities because it affects only certain Federal employees.

List of Subjects in 5 CFR Part 330

Armed forces reserves, Government employees.

Office of Personnel Management.
Kay Coles James,
Director.

Accordingly, the interim rule amending 5 CFR parts 330, 332, 351 and 353 which was published at 66 FR 29895 on June 4, 2001, as adopted as a final rule without change.

[FR Doc. 02-2674 Filed 2-4-02; 8:45 am]

BILLING CODE 6325-38-M